DEPARTMENT OF TRANSPORTATION

Federal Aviation Administration

Approval of Noise Compatibility Program for Van Nuys Airport, Van Nuys, CA

AGENCY: Federal Aviation Administration, DOT.

ACTION: Notice.

SUMMARY: The Federal Aviation Administration (FAA) announces its findings on the noise compatibility program submitted by City of Los Angeles, Los Angeles World Airports under the provisions of 49 U.S.C. 47501 et seq. (formerly the Aviation Safety and Noise Abatement Act, hereinafter referred to as “the Act”) and 14 Code of Federal Regulations (CFR) part 150 (hereinafter referred to as “Part 150”). On April 20, 2009, the FAA determined that the noise exposure maps submitted by Los Angeles World Airports under Part 150 were in compliance with applicable requirements. On October 16, 2009, the FAA approved the Van Nuys Airport noise compatibility program. Fifteen (15) of the thirty-five (35) total number of recommendations of the program were approved. No program elements relating to new or revised flight procedures for noise abatement were proposed by the airport operator.

DATES: Effective Date: The effective date of the FAA's approval of the Noise Compatibility Program for Van Nuys Airport is October 16, 2009.

FOR FURTHER INFORMATION CONTACT: Victor Globa, Environmental Protection Specialist, Federal Aviation Administration, Los Angeles Airports District Office, Mailing Address: P.O. Box 92007, Los Angeles, California 90009-2007. Street Address: 15000 Aviation Boulevard, Lawndale, California 90261. Telephone: 310/725-3637. Documents reflecting this FAA action may be reviewed at this same location.

SUPPLEMENTARY INFORMATION: This notice announces that the FAA has given its overall approval to the Noise Compatibility Program for Van Nuys Airport, effective October 16, 2009.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, § 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA under applicable law contained in Title 49 U.S.C. Where federal funding is sought, requests for project grants must be submitted to the FAA Los Angeles Airports District Office in the Western-Pacific Region.

The Van Nuys Airport study contains a proposed noise compatibility program comprised of actions designed for phased implementation by airport management and adjacent jurisdictions from July 16, 2008 to (or beyond) the year 2013. It was requested that the FAA evaluate and approve this material as a Noise Compatibility Program as described in section 47504 of the Act. The FAA began its review of the program on April 20, 2009, and was required by a provision of the Act to approve or disapprove the program within 180 days (other than the use of new or modified flight procedures for noise control). Failure to approve or disapprove such program within the 180-day period shall be deemed to be an approval of such program.

The submitted program contained 35 proposed actions for noise abatement, noise mitigation, land use planning and program management on and off the airport. The FAA completed its review and determined that the procedural and substantive requirements of the Act and Part 150 have been satisfied. The overall program was approved by the FAA, effective October 16, 2009.

FAA approval was granted for fifteen (15) specific program measures. The approved measures included such items as: [Measure #1] Airport Land Use Compatibility (ALUC) Plan; [Measure #16] Noise Roundtable; [Measure #18] Automated Feedback System; and [Measure #23] Noise Abatement Officer. One (1) measure; [Measure #11] Improved Communications [Helicopter Operations] was approved for improving means of communication; but disapproved for any changes to existing flight procedures not approved in the NCP and flight tracks; [Measure #14] Signage was approved for procedures already in effect at the airport; [Measure #3] Additional Development Within Impact Area is approved with respect to preventing the introduction of new housing but the portion of the measure that permits new noncompatible development within the DNL 65 dB, even with sound attenuation and/or easement is disapproved for purposes of Part 150 since it is inconsistent with the FAA's guidelines and 1998 policy; [Measure #17] Noise Management Monitoring System is approved for purposes of Part 150. Approval of this measure does not obligate the FAA to participate in funding the acquisition or installation of the permanent noise monitors and associated equipment. Note, for the purpose of aviation safety, this approval does not extend to the use of monitoring equipment for enforcement purposes by in-situ measurement of any pre-set noise thresholds; [Measure #5] Van Nuys Helicopter Policy is approved for study, however, the portion of the measure that recommends adoption of local plans and ordinances as necessary to regulate the establishment and operation of new helicopter landing facilities is disapproved; [Measure #12] Establish Noise Abatement and Departure Techniques for All Aircraft Departing Van Nuys was approved as a voluntary measure since the measure refers to the existing voluntary Fly Friendly program. Any changes to the voluntary nature of the Fly Friendly program or an adjustment to flight profiles is disapproved; [Measure #21] Marketing Policy has been approved as voluntary. Any mandatory enforcement of this policy would constitute an airport noise and access restriction that may only be adopted after full compliance with the Airport Noise and Capacity Act of 1990, 49 U.S.C. 47524(b), and 14 CFR part 161;[Measure #13] Establish Noise Abatement and Departure Procedures was approved in part, as voluntary; disapproved in part pending compliance with 14 CFR part 161. The measure related to maintaining the existing flight procedure at the airport is approved as voluntary. Any changes to the voluntary nature of the Fly Friendly program or adjustments to flight profiles is disapproved; [Measure #19] Tenant Association has been approved in part. This approval does not extend to solutions or recommendations by the Tenant Association to existing operational procedures. These must be vetted through the FAA to determine their impacts on aviation safety and efficiency; [Measure #2] Insulation and [Measure #22] Financial Assistance have been approved for homes or noncompatible development that was constructed or existed before October 1, 1998. Homes acoustically treated by the City of Los Angeles prior to approval of the Part 150 study cannot be made eligible for federal AIP or PFC funding.

FAA disapproved twenty (20) specific program measures. The disapproved measures included: [Measure #4] Construction and Capital Improvement was disapproved due to lack of quantifiable benefits identified and the FAA not being able to determine how the measure contributes to improving the noise environment around the airport; [Measure #6] West Side Operations was disapproved due to lack of quantitative analysis and the changes in altitudes would increase complexity for pilots and controllers; [Measure #7] Helicopter Training Facility was disapproved since the airport does not have authority to regulate numbers of operations; such action would be subject to analysis and approval under 14 CFR part 161. Also, the NCP does not provide sufficient information to determine that there would be a noise benefit; [Measure #8] Improve Use of Established [Helicopter] Routes was disapproved since the recommended Stagg Street arrival/departure procedure would create a safety hazard for FAA Air Traffic Control. It is also noted that the NCP states that an analysis of benefits was not conducted, and that it is not likely that benefits will occur within the CNEL noise contours of the official NEMs; [Measure #9] Bull Creek [Helicopter] Route to Balboa was disapproved since the 1991 Helicopter Study indicates a shift in helicopter traffic to Balboa Boulevard would require helicopters to fly over more residential areas and a school. Without current land use information, it is not possible to tell whether new noncompatible land uses would be impacted or benefitted should the route be shifted; [Measure #10] [Altitude of] Public Service [Helicopter] Fleets was disapproved since aircraft altitudes may not be established by local ordinance. Any study of possible changes to the airspace in the vicinity of Van Nuys Airport must be conducted in consultation with the FAA's Air Traffic Organization because of the potential impacts on airspace service and efficiency. Should a study recommend changes in altitude that are demonstrated to be safe, they may be submitted for approval in 14 CFR part 150; [Measure #15] Runway Policy—Full Length Departure was disapproved since there is no analysis to demonstrate the measure's noise benefits and the FAA cannot determine how the measure contributes to improving the noise environment around the Airport. This disapproval does not prohibit or discourage continuation of exiting practices to use the full runway length outside the Part 150 program; [Measure #20] Automatic Terminal Information Service (ATIS) Message was disapproved since FAA Order 7110.65 Air Traffic Control, no longer provides for noise abatement advisories; [Measure #24] Noise Abatement Information was disapproved since noise abatement procedures are airport specific and must be evaluated for effectiveness at individual airports. Any new procedures proposed for noise mitigation at VNY may not be implemented prior to conducting a study to determine whether they can be implemented safely and efficiently, and whether they are noise beneficial; [Measure #25] Raising Burbank (Bob Hope Airport) Glideslope was disapproved since the FAA has concerns regarding the “ripple” effect the change to the glideslope would cause within the Southern California Terminal Radar Control (TRACON) airspace around VNY. Traffic is already constrained by multiple regulated airspace areas and high terrain nearby. Raising the glideslope at Bob Hope Airport would require additional changes to vertical altitude for separation changes. This will create the loss of significant designated altitude when there is an aircraft executing the Instrument Landing System to Bob Hope Airport. Loss of any altitude will be detrimental to air traffic operations in the vicinity; [Measure #27] Air Traffic Control Tower (ATC) was disapproved since specific standards must be met prior to extending the hours of operation at any ATC facility. FAA does not enforce locally enacted noise rules. Keeping the tower open solely for the purpose of noise abatement does not meet these criteria; [Measure #26] Lease Policy which was disapproved for purposes of Part 150 since the NCP analysis includes very little information on the measure. The measure appears to apply only to jet aircraft, which could be unjustly discriminatory and it does not discuss potential impacts on owners of non-staged, Stage 1 and other non-Stage 2 aircraft; [Measure #28] Aircraft “N” Numbers were disapproved for purposes of Part 150 since there is insufficient information to demonstrate a measurable noise benefit; [Measure #29] Incentives and Disincentives in Rental Rates was disapproved since the proposed measure could constitute an airport noise and access restriction that may only be adopted after full compliance with the Airport Noise and Capacity Act of 1990, 49 U.S.C. 47521 et seq., and 14 CFR part 161; [Measure #30] Incentives and Disincentives in Landing Fees was disapproved since the proposed measure could constitute an airport noise and access restriction that may only be adopted after full compliance with the Airport Noise and Capacity Act of 1990 (ANCA), and 14 CFR part 161; [Measure #31] Expansion of Fines was disapproved since the measure proposes to expand fines to mandate compliance with a voluntary Fly Friendly program that constitutes an airport noise and access restriction that may only be adopted after full compliance with the Airport Noise and Capacity Act of 1990 (ANCA), 49 U.S.C. 47524(b), and 14 CFR part 161; [Measure #32] Maximum Daytime Noise Limits was disapproved since the NCP does not quantify noise benefits derived from implementing this measure and this measure constitutes an airport noise and access restriction that may only be adopted after full compliance with the Airport Noise and Capacity Act of 1990 (ANCA), and 14 CFR part 161. The completed Part 161 analysis may be submitted for FAA reconsideration of this measure under Part 150 if an FAA determination under Part 150 is being sought; [Measure #33] Limit on Stage 3 Jets was disapproved since the NCP does not quantify the noise benefits and this measure constitutes an airport noise and access restriction that may only be adopted after full compliance with the Airport Noise and Capacity Act of 1990 (ANCA), and 14 CFR part 161. The completed Part 161 analysis may be submitted for FAA reconsideration of this measure under Part 150 if an FAA determination under Part 150 is being sought; [Measure #34] Expansion of Curfew was disapproved since the NCP does not quantify the noise benefits and this measure constitutes an airport noise and access restriction that may only be adopted after full compliance with the Airport Noise and Capacity Act of 1990 (ANCA), and 14 CFR part 161. The completed Part 161 analysis may be submitted for FAA reconsideration of this measure under Part 150 if an FAA determination under Part 150 is being sought; and [Measure #35] Cap/Phase-Out of Helicopters was disapproved since the NCP does not quantify the noise benefits and this measure constitutes an airport noise and access restriction that may only be adopted after full compliance with the Airport Noise and Capacity Act of 1990, and 14 CFR part 161. The completed Part 161 analysis may be submitted for FAA reconsideration of this measure under Part 150 if an FAA determination under Part 150 is being sought. These determinations are set forth in detail in a Record of Approval signed by the Associate Administrator for Airports (ARP-1) on October 16, 2009. The Record of Approval, as well as other evaluation materials and the documents comprising the submittal, are available for review at the FAA office listed above and at the administrative offices of the City of Los Angeles, Los Angeles World Airports.

The Record of Approval also will be available on-line at: http://www.faa.gov/airports_airtraffic/airports/environmental/airport_noise/part_150/states/.

Issued in Hawthorne on December 4, 2009.
Mark A. McClardy
Manager, Airports Division, Western-Pacific Region.

[FR Doc. E9-29755 Filed 12-14-09; 8:45 am]

BILLING CODE 4910-13-P